DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 22, 2001.

Interested persons are invited to submit written comments regarding the subject matter of the investigations to the Director, Division of Trade Adjustment Assistance, at the address shown below, not later than October 22, 2001.

The petitions filed in this case are available for inspection at the Office of the Director, Division of Trade Adjustment Assistance, Employment and Training Administration, U.S. Department of Labor, Room C-5311, 200 Constitution Avenue, NW., Washington, DC 20210.

Signed at Washington, DC, this 4th day of September, 2001.
Edward A. Tomchick,
Director, Division of Trade Adjustment Assistance.

Appendix
[Petitions Instituted on 09/04/2001]
TA-W | Subject firm (Petitioners) | Location | Date of (petition) | Product(s)
39,918 | Beloit Corporation (Wkrs) | Beloit, WI | 08/13/2001 | Paper Making Machines.
39,919 | Antech Keptel (Wkrs) | Tinton Falls, NJ | 08/08/2001 | Telephone Switching Devices.
39,920 | Fasco Industries (Wkrs) | Ozark, MO | 08/15/2001 | Shared Pole Motors.
39,921 | Guilford Mills (Co.) | Lumberton, NC | 07/18/2001 | Knit Fabric.
39,922 | Tessy Plastics (Wkrs) | Elbridge, NY | 08/14/2001 | Injected Molded Plastic Parts.
39,923 | Illbruck Automotive (Co.) | Howell, MI | 08/23/2001 | Accoustic Parts for Automobiles.
39,924 | FCI Electronics (Wkrs) | Clearfield, PA | 08/15/2001 | Electronics.
39,925 | Baker Enterprises (USWA) | Alpena, MI | 07/31/2001 | Concrete Block Machinery.
39,926 | Anvil Knitwear (Wkrs) | Kings Mountain, NC | 08/03/2001 | knited, Dyed and Finished Cloth.
39,927 | Pechinery Plastic Packagin (Wkrs) | Cleveland, OH | 08/10/2001 | Flexible Packaging.
39,928 | C.L. Fashions Express (Wkrs) | Panorama City, CA | 08/16/2001 | C.L. Fashions.
39,929 | Pillowtex (Wkrs) | Hawkinsville, GA | 08/13/2001 | Towels, Wash Cloths and Dish Towels.
39,930 | VC Sportswear (Wkrs) | New York, NY | 08/17/2001 | Childrens Clothing.
39,931 | Minster Machine (USWA) | Minster, OH | 08/16/2001 | Metal Forming Dresses.
39,932 | Rexam Beverage Can (USWA) | Houston, TX | 08/17/2001 | Cans.
39,933 | Hecla Mining (USWA) | Mullan, ID | 08/20/2001 | Silver, Lead and Zinc.
39,934 | Tech Books (Wkrs) | Shippensburg, PA | 08/16/2001 | Tech Books.
39,935 | Contract Apparel (Wkrs) | El Paso, TX | 08/15/2001 | Clothing.
39,936 | ASARCO (Wkrs) | El Paso, TX | 08/24/2001 | Cooper.
39,937 | Sanmina Corporation (Wkrs) | Pleasant Prairi, WI | 08/14/2001 | Circuit Boards.
39,938 | Honeywell (Co.) | Clearfield, UT | 08/02/2001 | Air Filter.
39,939 | Willamette Industries (Co.) | Bend, OR | 08/17/2001 | Furniture and Cabinets.
39,940 | Eaton Corp. Cutler Hammer (Co.) | Moon Township, PA | 08/14/2001 | Power Management Products.
39,941 | Finet Technologies (Wkrs) | Dunmore, PA | 08/16/2001 | Pump Laser Amplifier.
39,942 | Recycled Offices (Wkrs) | Sanford, NC | 08/08/2001 | Work Stations.
39,943 | Realco Diversifeld (Wkrs) | Meadville, PA | 08/14/2001 | Tool and Die.
39,944 | Hilton Corporate Casuals (Wkrs) | Thomasville, AL | 08/13/2001 | Polo Golf Shirts.
39,945 | Galey and Lord Industries (Co.) | Asheboro, NC | 08/17/2001 | Polyester Cotton Fabric.
39,946 | Valley Machining Co. (Co.) | Rock Valley, IA | 08/13/2001 | Custom Machine Parts.
39,947 | Martin Marietta Magnesia (USWA) | Manistee, MI | 08/13/2001 | Magnesium Oxide and Hydroxide Products.
39,948 | APW Magville (IAM) | Mayville, WI | 08/08/2001 | Telecommunications Switching Stations.
39,949 | Eaton Corporation (USWA) | Shelbyville, TN | 08/13/2001 | Parts for Transmissions.

[FR Doc. 01-25471 Filed 10-10-01; 8:45 am]

BILLING CODE 4510-30-M